DEPARTMENT OF TRANSPORTATION

Office of the Secretary

Aviation Proceedings, Agreements Filed the Week Ending November 9, 2007

The following Agreements were filed with the Department of Transportation under the sections 412 and 414 of the Federal Aviation Act, as amended (49 U.S.C. 1383 and 1384) and procedures governing proceedings to enforce these provisions. Answers may be filed within 21 days after the filing of the application.

Docket Number: DOT-OST-2007-0041.

Date Filed: November 8, 2007.

Parties: Members of the International Air Transport Association.

Subject: TC123 South Atlantic. Expedited Resolution 002bc and Specified Fares Tables. Package/expedited (PTC123 SATL 0388). Intended effective date: 15 December 2007.

Docket Number: DOT-OST-2007-0042.

Date Filed: November 8, 2007.

Parties: Members of the International Air Transport Association.

Subject: TC12 Mexico, Mid Atlantic, South Atlantic—Europe. (Memo PTC12 MEX-EUR 0094). Minutes: TC12 Passenger Tariff Coordinating Conference Geneva, 3 October 2007. PTC12 Mexico, Mid Atlantic, South Atlantic—Europe. Minutes (Memo PTC12 MEX-EUR 0096). Intended effective date: 1 December 2007.

Docket Number: DOT-OST-2007-0043.

Date Filed: November 8, 2007.

Parties: Members of the International Air Transport Association.

Subject: TC23/123 Africa-South East Asia. Expedited Resolutions and Specified Fares Tables. Intended effective date: 1 November 2007.

Docket Number: DOT-OST-2007-0044.

Date Filed: November 8, 2007.

Parties: Members of the International Air Transport Association.

Subject: Expedited Resolution 002ar (PTC123 0387). Intended effective date: 15 December 2007.

Docket Number: DOT-OST-2007-0045.

Date Filed: November 8, 2007.

Parties: Members of the International Air Transport Association.

Subject: TC1 Longhaul Package Resolutions. (Memo PTC1 0364). Intended effective date: 1 January 2008.

Docket Number: DOT-OST-2007-0046.

Date Filed: November 8, 2007.

Parties: Members of the International Air Transport Association.

Subject: TC23/123 Middle East-South East Asia. Expedited Resolutions and Specified Fares Tables. Intended effective date: 1 November 2007.

Renee V. Wright,
Program Manager, Docket Operations, Federal Register Liaison.

[FR Doc. E8-2500 Filed 2-8-08; 8:45 am]

BILLING CODE 4910-9X-P